DEPARTMENT OF COMMERCE

National Oceanic and Atmospheric Administration

[I.D. 082401A]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Committee, Habitat Committee, Controlled Access Committee, Scientific and Statistical Selection Committee, Information and Education Committee, Advisory Panel Selection Committee and a joint meeting of the Executive and Finance Committees. Public comment periods will be held during some of the meetings. There will also be a full Council Session.

DATES: The meetings will be held in September 2001. See SUPPLEMENTARY INFORMATION for specific dates and times.

ADDRESSES: These meetings will be held at the Town and Country Inn, 2008 Savannah Highway, Charleston, SC 29407; telephone: 1-800-334-6660 or 843-571-1000.

Council address: South Atlantic Fishery Management Council, One Southpark Circle, Suite 306, Charleston, SC 29407-4699.

FOR FURTHER INFORMATION CONTACT: Kim Iverson, Public Information Officer; telephone: (843) 571-4366; fax: (843) 769-4520; email: kim.iverson@noaa.gov.

SUPPLEMENTARY INFORMATION:

Meeting Dates

September 17, 2001, from 1:30 p.m. until 5:30 p.m. and September 18, 2001, from 8:30 a.m. until 10:30 a.m., Snapper Grouper Committee Meeting.

The Snapper Grouper Committee will meet to review and comment on the following:

Proposed actions for Amendment 13 to the Snapper Grouper Fishery Management Plan (FMP) including permit transfers, snowy grouper and golden tilefish management, prohibition of the sale of mutton snapper in May and June, review of stock status for speckled hind and warsaw grouper and evaluation of current regulations, spawning site closures and other measures. The Committee will also review recommendations from the Marine Protected Area Committee regarding possible sites for marine protected areas and other recommendations.

September 18, 2001, from 10:30 a.m. until 12 noon, Scientific and Statistical Selection Committee Meeting.

The Scientific and Statistical Selection Committee will meet in a closed session to review candidates for appointment to the Scientific and Statistical Committee and develop recommendations.

September 18, 2001, from 1:30 p.m. until 3:30 p.m., Information and Education Committee Meeting.

The Information and Education Committee will meet to review current materials, projects and activities, develop goals and objectives, and identify needs related to public outreach.

September 18, 2001, from 3:30 p.m. until 5:30 p.m., Habitat Committee Meeting.

The Habitat Committee will meet to review the status of the Sargassum FMP, review recommendations from the Habitat Advisory Panel, evaluate allowing rock shrimp trawling in or near the Oculina Habitat Areas of Particular Concern (HAPC) by vessels with Vessel Monitoring Systems and address Ecosystem FMP issues.

September 19, 2001, from 8:30 a.m. until 12 noon, Controlled Access Committee Meeting.

The Controlled Access Committee will meet to review comments on the Draft Environmental Impact Statement (DEIS) regarding Amendment 5 to the Shrimp FMP addressing controlled access for the rock shrimp fishery. The Committee will review and approve changes to the document and make recommendations for submission to the Secretary of Commerce. The Controlled Access Committee will also review the Qualitative Vessel Capacity Report from NMFS.

September 19, 2001, from 1:30 p.m. until 3:30 p.m., Advisory Panel Selection Committee Meeting.

The Advisory Panel Selection Committee will meet in a closed session to review membership applications and develop recommendations.

September 19, 2001, from 3:30 p.m. until 5:30 p.m., Joint Executive Committee and Finance Committee Meeting.

The Executive and Finance Committees will meet to review and approve the Council’s Calendar Year (CY) 2001 activities schedule, budget and Operations Plan. In addition, the Committees will discuss the Council’s Atlantic Coast Cooperative Statistic Program (ACCSP) funding request and review the status of the Magnuson-Stevens Fishery Conservation and Management Act reauthorization.

September 20, 2001, from 8:30 a.m. until 6:00 p.m., Council Session.

From 8:30 a.m. - 8:45 a.m., the Council will have a Call to Order, introductions and roll call adoption of the agenda, and approval of the June 2001 meeting minutes.

From 8:45 a.m. - 9:45 a.m., the Council will hold a Public Scoping Meeting on: (1) Coral framework action to establish additional HAPC and (2) development of a comprehensive FMP amendment addressing permit renewal timeframes, operator permits, a consolidated controlled access system and the Atlantic Coast Cooperative Statistics Program’s permits and reporting. Documents regarding these issues are available from the Council office (see ADDRESSES).

From 9:45 a.m. - 10:45 a.m., Beginning at 9:45 a.m., the Council will hold a Public Comment Meeting on Amendment 5 to the Shrimp FMP (rock shrimp limited access). Following the public comment period, the Council will hear a report from the Controlled Access Committee and approve Amendment 5 for submission to the Secretary of Commerce. Documents regarding these issues are available from the Council office (see ADDRESSES).

From 10:45 a.m. - 12 noon and 1:30 p.m. - 2:15 p.m., the Council will hear a report from the Marine Protected Area Committee regarding marine protected area sites to be included in an options paper for Amendment 14 to the Snapper Grouper FMP.

From 2:15 p.m. - 2:45 p.m., the Council will hear a report from the Snapper Grouper Committee and approve a list of actions for the Snapper Grouper FMP Amendment 13 draft public hearing document.

From 2:45 p.m.- 3:00 p.m., the Council will hear a report from the Scientific and Statistical Selection Committee and appoint new members to the SSC.

From 3:00 p.m. - 3:15 p.m., the Council will hear a report from the Advisory Panel Selection Committee and appoint new members to the advisory panels.

From 3:15 p.m. - 3:30 p.m., the Council will hear a report from the Information and Education Committee.

From 3:30 p.m. - 3:45 p.m., the Council will hear a report from the Habitat Committee.

From 3:45 p.m. - 4:15 p.m., the Council will hear a report from the joint Executive and Finance Committees and approve the Council’s CY 2002 Activities Schedule, Budget and Operations Plan.

From 4:15 p.m. - 4:45 p.m., the Council will hear a report on the status of NMFS Southeast Fisheries Science Center activities.

From 4:45 p.m. - 5:00 p.m., the Council will hear a report on Final Guidelines for Economic Analysis.

From 5:00 p.m. - 5:15 p.m., the Council will hear status reports from NMFS on the Golden Crab Amendment 3, Dolphin Emergency Rule request, the Dolphin Wahoo DEIS, and allowable gear rule change request. The Council will also hear NMFS status reports on landing for Atlantic king mackerel, Gulf king mackerel (eastern zone), Atlantic Spanish mackerel, snowy grouper and golden tilefish, wreckfish, greater amberjack and south Atlantic octocorals.

From 5:15 p.m. - 6:00 p.m., the Council will hear Agency and Liaison Reports, discuss other business and upcoming meetings.

Copies of documents are available from Kim Iverson (see FOR FURTHER INFORMATION CONTACT).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by September 11, 2001.

Dated: August 24, 2001.
Richard W. Surdi,
Acting Director, Office of Sustainable Fisheries, National Marine Fisheries Service.

[FR Doc. 01-21955 Filed 8-29-01; 8:45 am]

BILLING CODE 3510-22-S